DEPARTMENT OF AGRICULTURE

Commodity Credit Corporation

In-Handling Charges for Commodities Pledged as Collateral for Marketing Assistance Loan

AGENCY: Commodity Credit Corporation, USDA.

ACTION: Notice.

SUMMARY: The Commodity Credit Corporation (CCC) will discontinue reimbursing producers or warehouse operators for in-handling charges. This begins with the 2008-crop for all commodities except cotton. Producers must pay or provide for all in-handling charges on warehouse-stored commodities before CCC will accept commodities as collateral for a warehouse-stored marketing assistance loan. Also, producers must pay or provide for the payment of in-handling charges for farm-stored commodities that are delivered to a warehouse in settlement of a farm-stored marketing assistance loan.

DATES: Effective Date: May 8, 2008.

FOR FURTHER INFORMATION CONTACT: Helen Linden, Assistant to the Director, Warehouse and Inventory Division, Farm Service Agency, USDA, STOP 0553, 1400 Independence Avenue, SW., Washington, DC 20250-0553; telephone: (202) 690-4321; e-mail: helen.linden@wdc.usda.gov. Persons with disabilities who require alternative means for communication (Braille, large print, audiotape, etc.) should contact the USDA Target Center at (202) 720-2600 (voice and TDD).

SUPPLEMENTARY INFORMATION: The Farm Security and Rural Investment Act of 2002 (Pub. L. 107-171) (2002 Farm Bill) authorizes the marketing assistance loan program for all commodities. In the past, CCC paid warehouse operators or reimbursed producers for in-handling charges on forfeited commodities that were pledged as collateral for warehouse-stored marketing assistance loans or delivered to CCC in satisfaction of a farm-stored marketing assistance loan.

Starting with the 2008-crop year, CCC will no longer pay warehouse operators or reimburse producers for in-handling charges that are applicable to either warehouse-stored commodities that are pledged as collateral for marketing assistance loans or farm-stored commodities that are forfeited to CCC in satisfaction of a farm-stored marketing assistance loan.

Beginning with 2008-crop marketing assistance loans, producers must pay or provide for the payment of in-handling charges on warehouse-stored commodities before CCC will accept the commodity as collateral for a warehouse-stored marketing assistance loan.

Beginning with the 2008-crop of wheat, feed grains, soybeans, rice, pulses, minor oilseeds, peanuts, honey, wool, and mohair, producers must provide documentation that all in-handling charges have been paid or provided for before a warehouse-stored marketing assistance loan will be disbursed for the commodity. Acceptable documentation will include specific information recorded directly on the warehouse receipt pledged as collateral for a marketing assistance loan. If the information is not recorded directly on the warehouse receipt that is pledged as loan collateral, separate documentation that is signed by the warehouse operator that includes the following language will be accepted as evidence that in-handling charges have been paid or provided for if the document is presented in conjunction with a warehouse receipt that is pledged as collateral for a warehouse-stored marketing assistance loan:

Arrangements for the payment of in-handling charges have been made by the depositor of the commodity covered by receipt number (Insert Receipt Number). No lien will be asserted by the warehouse operator against the Commodity Credit Corporation or any subsequent holder of the warehouse receipt for in-handling charges.

Failure to present the required documentation that in-handling charges have been paid or provided for will result in the commodity represented by the warehouse receipt being determined ineligible as collateral for the marketing assistance loan until the documentation is submitted to the applicable Farm Service Agency county office.

For commodities pledged as collateral for farm-stored marketing assistance loans that are forfeited to CCC in satisfaction of an outstanding loan, the producer or warehouse operator that is accepting delivery of the forfeited commodity must provide documentation that in-handling charges have been paid or provided for before the loan settlement will be recorded. If the evidence is not provided as part of the delivery documentation, CCC will reduce the producer's settlement value for the forfeited commodity to reflect the amount of unpaid in-handling charges, at the rate provided in the warehouse's public tariff rates. In the event that a deduction from settlement proceeds is made, CCC will forward the withheld amount to the storing warehouse operator on behalf of the producer and will report the amount paid to the Internal Revenue Service (IRS).

Signed at Washington, DC, on May 1, 2008.
Glen L. Keppy,
Executive Vice President, Commodity Credit Corporation.

[FR Doc. E8-10179 Filed 5-7-08; 8:45 am]

BILLING CODE 3410-05-P